ENVIRONMENTAL PROTECTION AGENCY

[FRL-6565-3]

Adequacy Status of the New York State Portion of the New York-New Jersey-Connecticut Carbon Monoxide Maintenance Plan for Transportation Conformity Purposes

AGENCY: Environmental Protection Agency (EPA).

ACTION: Notice of adequacy.

SUMMARY: In this notice, EPA is notifying the public that we have found that the motor vehicle emissions budgets contained in the November 23, 1999 carbon monoxide maintenance plan for the New York State portion of the New York-New Jersey-Connecticut carbon monoxide nonattainment area are adequate for conformity purposes. On March 2, 1999, the D.C. Circuit Court ruled that submitted State implementation plans (SIPs) cannot be used for conformity determinations until EPA has affirmatively found them adequate. As a result of our finding, the New York State portion of the New York-New Jersey-Connecticut carbon monoxide nonattainment area must use the motor vehicle emissions budgets from the submitted carbon monoxide maintenance plan for future conformity determinations. This finding is effective April 11, 2000.

FOR FURTHER INFORMATION CONTACT: Rudolph K. Kapichak, Mobile Source Team Leader, Air Programs Branch, Environmental Protection Agency, 290 Broadway, 25th Floor, New York, New York 10007-1866, (212) 637-3804, e-mail address: Kapichak.Rudolph@epa.gov.

The finding and the response to comments will be available at EPA's conformity website: http://www.epa.gov/oms/traq (once there, click on the “Conformity” button, then look for “Adequacy Review of SIP Submissions for Conformity”).

SUPPLEMENTARY INFORMATION:

Background

Today's notice is simply an announcement of a finding that we have already made. EPA Region 2 sent a letter to the New York State Department of Environmental Conservation on March 17, 2000 stating that the motor vehicle emissions budgets for 2000, 2007 and 2012 in the submitted carbon monoxide maintenance plan for the New York State portion of the New York-New Jersey-Connecticut carbon monoxide nonattainment area are adequate. This finding will also be announced on EPA's conformity website: http://www.epa.gov/oms/traq (once there, click on the “Conformity” button, then look for “Adequacy Review of SIP Submissions for Conformity”).

Transportation conformity is required by section 176(c) of the Clean Air Act. EPA's conformity rule requires that transportation plans, programs, and projects conform to State air quality implementation plans (SIPs) and establishes the criteria and procedures for determining whether or not they do. Conformity to a SIP means that transportation activities will not produce new air quality violations, worsen existing violations, or delay timely attainment of the national ambient air quality standards.

The criteria by which we determine whether a SIP's motor vehicle emission budgets are adequate for conformity purposes are outlined in 40 CFR 93.118(e)(4). Please note that an adequacy review is separate from EPA's completeness review, and it also should not be used to prejudge EPA's ultimate approval of the SIP. Even if we find a budget adequate, the SIP could later be disapproved.

We have described our process for determining the adequacy of submitted SIP budgets in guidance (May 14, 1999 memo titled “Conformity Guidance on Implementation of March 2, 1999 Conformity Court Decision”). We followed this guidance in making our adequacy determination.

Authority: 42 U.S.C. 7401-7671q.

Dated: March 17, 2000.
William Muszynski,
Acting Regional Administrator, Region 2.

[FR Doc. 00-7453 Filed 3-24-00; 8:45 am]

BILLING CODE 6560-50-U